Title 3—

The President

Proclamation 9034 of October 4, 2013

Fire Prevention Week, 2013

By the President of the United States of America

A Proclamation

Fires take more American lives than all other natural disasters combined. They inflict devastating tolls on families and communities, and they cost our Nation billions of dollars each year. During Fire Prevention Week, we pay tribute to the brave men and women who put their lives on the line to pull their neighbors out of harm's way, and pledge to do our part to prevent fires in our homes, our cities, and the great outdoors.

We all have a responsibility to protect our families against fire. We should be cautious while cooking, using electrical appliances, and heating our homes. Those who live in areas prone to wildfires can help safeguard their homes by clearing flammable vegetation, and they should plan for emergencies by building a supply kit and talking with their families about a communications plan and evacuation routes. Every American should install working smoke detectors on each level of their home and remember to test them monthly. It is also essential to develop and practice evacuation plans twice a year. Because fire spreads rapidly and poisonous, disorienting smoke moves even quicker, families should design plans that allow for the quickest possible exit. To learn more about taking precautions against fires, visit www.Ready.gov.

By preventing fires, we can both protect our loved ones and keep America's firefighters out of unnecessary danger. To save people they have never met, these skilled professionals battle walls of flame, put themselves in the paths of unpredictable wildfires, and rush into houses on the verge of collapse. This week, as we renew our commitment to fire safety, we thank these courageous first responders for their service and honor those who have made the ultimate sacrifice in the line of duty.

NOW, THEREFORE, I, BARACK OBAMA, President of the United States of America, by virtue of the authority vested in me by the Constitution and the laws of the United States do hereby proclaim October 6 through October 12, 2013, as Fire Prevention Week. On Sunday, October 6, 2013, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this fourth day of October, in the year of our Lord two thousand thirteen, and of the Independence of the United States of America the two hundred and thirty-eighth.

[FR Doc. 2013-24498

Filed 10-15-13; 8:45 am]

Billing code 3295-F4